DEPARTMENT OF ENERGY

10 CFR Part 430

[Docket No. EERE-2013-BT-STD-0006]

RIN 1904-AC55

Energy Conservation Standards for Commercial and Industrial Fans and Blowers: Availability of Provisional Analysis Tools and Notice of Data Availability

AGENCY: Office of Energy Efficiency and Renewable Energy, Department of Energy.

ACTION: Close of public comment period.

SUMMARY: The comment period for the Availability of Provisional Analysis Tools and Notice of Data Availability pertaining to the development of energy conservation standards for commercial and industrial fan and blower equipment published on May 1, 2015, closes on September 8, 2015.

DATES: The comment period for the Availability of Provisional Analysis Tools and Notice of Data Availability closes on September 8, 2015.

ADDRESSES: Any comments submitted must identify the framework document for commercial and industrial fans and blowers and provide docket number EERE-2013-BT-STD-0006 and/or RIN number 1904-AC55. Comments may be submitted using any of the following methods:

• Federal eRulemaking Portal: http://www.regulations.gov. Follow the instructions for submitting comments.

• Email: CIFB2013STD0006@EE.Doe.Gov. Include EERE-2013-BT-STD-0006 in the subject line of the message.

• Mail: Ms. Brenda Edwards, U.S. Department of Energy, Building Technologies Program, Mailstop EE-5B, Framework Document for Commercial and Industrial Fans and Blowers, EERE-2013-BT-STD-0006, 1000 Independence Avenue SW., Washington, DC 20585-0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Ashley Armstrong, U.S. Department of Energy, Office of Energy Efficiency and Renewable Energy, Building Technologies, EE-5B, 1000 Independence Avenue SW., Washington, DC 20585-0121. Telephone: (202) 586-6590. Email: CIFansBlowers@ee.doe.gov.

Mr. Peter Cochran, U.S. Department of Energy, Office of the General Counsel, GC-33, 1000 Independence Avenue SW., Washington, DC 20585-0121. Telephone: (202) 586-9496. Email: Peter.Cochran@hq.doe.gov.

For further information on how to submit a comment and review other public comments and the docket, contact Ms. Brenda Edwards at (202) 586-2945 or by email: Brenda.Edwards@ee.doe.gov.

SUPPLEMENTARY INFORMATION: The U.S. Department of Energy (DOE) published a proposed determination that commercial and industrial fans and blowers (fans) meet the definition of covered equipment under the Energy Policy and Conservation Act of 1975, as amended (76 FR 37628, June 28, 2011). As part of its further consideration of this determination, DOE has initiated a rulemaking to establish energy conservation standards for commercial and industrial fans and blowers. To date, DOE has published a notice of public meeting and availability of the framework document to consider such standards (78 FR 7306 (Feb. 1, 2013)), and two Availabilities of Provisional Analysis Tools and Notices of Data Availability (NODAs) (79 FR 73246 (Dec. 10, 2014), and 80 FR 24841 (May 1, 2015)). The second NODA provided for the submission of public comments through Fans and Blowers Working Group meetings established by the Appliance Standards Regulatory Advisory Committee (ASRAC), which concludes on September 8, 2015.

In addition to issuing these publications, DOE has participated in and provided support to the Fans and Blowers Working Group. In particular, the second NODA was published to inform the proceedings of the Working Group and serve as a starting point for its work. The proceedings of the Working Group, including revised analysis largely supersede the content of the May 2015 NODA. DOE encouraged stakeholders to provide any additional data or information and to submit comments on the content and analysis developed during the ASRAC Working Group process. Supporting material presented during the Working Group meetings and transcripts, as well as supporting documents including industry publications are available in the Fans and Blowers rulemaking docket at: http://www.regulations.gov/#!docketDetail;D=EERE-2013-BT-STD-0006.

Given that the Fans and Blowers Working Group meetings will conclude by September 8, 2015, DOE believes that closing the comment period on September 8, 2015 will allow sufficient time for interested parties to submit comments. Accordingly, DOE will consider any comments received by September 8, 2015 to be timely submitted.

Issued in Washington, DC, on August 19, 2015.
Kathleen B. Hogan,
Deputy Assistant Secretary for Energy Efficiency, Energy Efficiency and Renewable Energy.

[FR Doc. 2015-20963 Filed 8-24-15; 8:45 am]

BILLING CODE 6450-01-P